DEPARTMENT OF HOMELAND SECURITY

Coast Guard

[USCG-2004-16978]

Workshop on Strategies To Increase Personal Flotation Device (PFD) Wear in Recreational Boating at the Miami International Boat Show

AGENCY: Coast Guard, DHS.

ACTION: Notice of meeting.

SUMMARY: The U.S. Coast Guard and the Personal Flotation Device Manufacturers Association (PFDMA) are sponsoring a workshop to bring representatives of all appropriate segments of the recreational marine community together to explore any and all means of increasing PFD wear while boating. The workshop will be open to the public.

DATES: The workshop will meet on Friday, February 13, 2004, from 3 p.m. to 5 p.m. The workshop may close early if all business is finished.

ADDRESSES: The workshop will meet in room A201 (in the A Lobby), Miami Beach Convention Center, 1901 Convention Center Dr., Miami Beach, FL. This notice is available on the Internet at http://dms.dot.gov and at http://uscgboating.org.

FOR FURTHER INFORMATION CONTACT: Richard Kanehl, Project Manager, Office of Boating Safety, U.S. Coast Guard, telephone 202-267-0976, fax 202-267-4285 or Bernice McArdle, Executive Director, Personal Flotation Device Manufacturers Association, telephone 312-946-6200, fax 312-946-0388. If you have questions on viewing material in the docket, call Andrea M. Jenkins, Program Manager, Docket Operations, Department of Transportation, telephone 202-366-0271.

SUPPLEMENTARY INFORMATION: The Commandant of the U.S. Coast Guard is responsible for carrying out the National Recreational Boating Safety Program. A review of the 2002 Coast Guard Boating Safety statistics shows that the 5,705 boating accidents resulted in 750 fatalities and 4,062 injuries. The 750 fatalities reverse a downward trend and are at their highest level since 1998. Seventy percent of the 750 fatalities were drowning victims (524 out of 750); and nearly 85% of the victims who drowned were not wearing their PFD. Additionally, of the 524 fatalities due to drowning, 254 were on vessels known to be less than 16 feet in length and 388 were on vessels known to be less than 21 feet in length. (Note: 68 more drowning fatalities were on vessels of unspecified length.) For the past five years, we have utilized an independent contractor to perform observational surveys of PFD wear at over 120 sites nationwide during the primary boating season. Unfortunately, the results of these surveys indicate that the vast majority of adults do not wear their PFDs while boating. Therefore, we are sponsoring a workshop to bring representatives of all appropriate segments of the recreational marine community together to explore any and all means of increasing PFD wear while boating.

The workshop will be in a panel format. The panelists were selected based on area of marine community involvement, and will address relevant issues regarding PFD wear, as well as issues and questions raised by attendees at the workshop. We plan to prepare minutes of the workshop discussions and distribute them to everyone who registers attendance at the workshop by signing the attendance list at the workshop. You may also obtain a copy of the minutes from the persons listed under FOR FURTHER INFORMATION CONTACT.

Agenda of Workshop

The agenda includes the following:

(1) Introduction of the panel members and others.

(2) Discussion of prepared issues including breakdown of PFD wear segment, percentage of PFD wear among groups, attitudes of anglers/hunters, PFD wear studies, challenges, opportunities, actions taken to improve wear rates, update on PFD design, wearability, performance characteristics, comfort, etc.

(3) Discussion of issues and questions raised by attendees at the workshop.

(4) Conclusion.

Procedural

The meeting is open to the public. Please note that the workshop may close early if all business is finished.

Information on Services for Individuals With Disabilities

For information on facilities or services for individuals with disabilities or to request special assistance at the meeting, contact the persons listed under FOR FURTHER INFORMATION CONTACT as soon as possible.

Dated: January 27, 2004.
Kenneth A. Ward,
Captain, U.S. Coast Guard, Acting, Director of Operations Policy.

[FR Doc. 04-2217 Filed 2-3-04; 8:45 am]

BILLING CODE 4910-15-P